DEPARTMENT OF COMMERCE

National Oceanic and Atmospheric Administration (NOAA)

Revised Draft Framework for Developing the National System of Marine Protected Areas and Response to Comments

AGENCY: NOAA, Department of Commerce (DOC).

ACTION: Notice of availability and solicitation of public comments on the Revised Draft Framework for Developing the National System of Marine Protected Areas.

SUMMARY: NOAA and the Department of the Interior (DOI) jointly propose the Revised Draft Framework for Developing the National System of Marine Protected Areas (Revised Draft Framework), as required by Executive Order 13158 on Marine Protected Areas (MPAs). This Revised Draft Framework provides overarching guidance for collaborative efforts among federal, state, tribal and local governments and stakeholders to develop an effective National System of MPAs (National System) from existing sites, build coordination and collaborative efforts, and identify ecosystem-based gaps in the protection of significant natural and cultural resources for possible future action by the nation's MPA authorities. The document further provides the guiding principles, key definitions, goals, and objectives for the National System, based on the breadth of input received from MPA stakeholders and governmental partners around the nation over the past several years. The intent of this document is to summarize and respond to comments received on the initial draft document during the September 2006 through February 2007 public comment period, and solicit additional public input on the proposed Revised Draft Framework in order to develop a final document that meets the nation's interests in the National System. The Revised Draft Framework incorporates significant modifications based on due consideration of all comments and recommendations received on the initial draft document. At the end of the comment period on this Revised Draft Framework, NOAA will publish the final Framework, again with consideration of input received.

DATES: Comments must be received before 11:59 p.m. EDT, April 16, 2008.

ADDRESSES: All comments regarding the Revised Draft Framework should be submitted to Joseph Uravitch, National MPA Center, N/ORM, NOAA, 1305 East-West Highway, Silver Spring, Maryland 20910. Comments sent via e-mail should be sent to mpa.comments@noaa.gov, and all comments sent by fax should be sent to 301-713-3110. E-mail and fax comments should state “Revised Draft Framework Comments” in the subject line.

FOR FURTHER INFORMATION CONTACT: Please direct all questions and requests for additional information concerning the Revised Draft Framework, as well as for paper copies of the document to: Lauren Wenzel, NOAA, at 301-713-3100, or via e-mail at mpa.comments@noaa.gov. E-mail requests should state either “Question” or “Paper Copy Request” in the subject line. An electronic copy of the Revised Draft Framework is available for download at http://www.mpa.gov/.

SUPPLEMENTARY INFORMATION: The National Oceanic and Atmospheric Administration's (NOAA) National Marine Protected Areas Center (MPA Center), in cooperation with the Department of the Interior (DOI), has developed this Revised Draft Framework for Developing the National System of MPAs (Revised Draft Framework) to meet requirements under Executive Order 13158 on Marine Protected Areas. The purpose of this notice is to solicit additional input and comments on the Revised Draft Framework from governments and stakeholders in order to ensure that the final document represents the diversity of the nation's interests in the marine environment and MPAs. The Revised Draft Framework incorporates significant modifications based on due consideration of comments and recommendations received on the initial draft document during the September 2006 through February 2007 public comment period.

Increasing impacts on the world's oceans from development, overfishing, a changing climate, and natural events are straining the health of coastal, Great Lakes, and marine ecosystems. Impacts to these intricately balanced environments include declining fish populations, degradation of coral reefs and other vital habitats, threats to rare or endangered species, and loss of artifacts and areas that represent the United States' (U.S.) diverse cultural heritage. The effects of these losses are significant and jeopardize the social and economic fabric of the nation.

In the U.S. and around the world, marine protected areas (MPA) are increasingly recognized as an important and promising management tool for mitigating or buffering these impacts. When used effectively and as a part of a broader ecosystem-based approach to management, MPAs can help to restore and maintain healthy Great Lakes and marine environments by contributing to the overall protection of critical marine habitats and resources. In this way, effective MPAs also can offer social and economic opportunities for current and future generations, such as tourism, biotechnology, fishing, education, and scientific research.

There are nearly 2,000 existing MPAs in the U.S. that have been established by federal, state, territorial, and local governments to protect and conserve the nation's rich natural and cultural marine heritage and sustainable production resources. These MPAs have been designated to achieve a myriad of conservation objectives, ranging from conservation of biodiversity hotspots, to preservation of sunken historic vessels, to protection of spawning aggregations important to commercial and recreational fisheries. Similarly, the level of protection provided by these MPAs ranges from no-take marine reserves to allowing multiple uses, including fishing.

Recognizing the significant role that U.S. MPAs play in conserving marine heritage and sustainable use, and the lack of a national framework for comprehensive MPA planning, coordination and support, Presidential Executive Order 13158 (Order) calls for the development a National System of Marine Protected Areas (national system). The Order clearly calls for a national and not a federal system, and requires collaboration with federal agencies, as well as coastal states and territories, tribes, Federal Fishery Management Councils, and other entities, as appropriate, including the MPA Federal Advisory Committee. It further specifies that the national system be scientifically based, comprehensive, and represent the nation's diverse marine ecosystems and natural and cultural resources.

In order to provide a roadmap for building the national system, the Order calls for the development of a framework for a national system of MPAs and establishes the MPA Center within NOAA to lead its development and implementation. This Revised Draft Framework is the second draft. The first draft Framework has been revised with due consideration of over 11,000 comments and recommendations received during its September 2006 to March 2007 public comment period.

The intent of this document is to summarize and respond to comments received on the initial draft document during the September 2006 through February 2007 public comment period, and solicit additional public input on the proposed Revised Draft Framework in order to develop a final document that meets the nation's interests in the National System. When submitting comments on the Revised Draft Framework, please remember that comments submitted by e-mail are preferred; however, those submitted by mail and fax will also be accepted.

Classification

Regulatory Planning and Review

This action is not a regulatory action subject to E.O. 12866 (58 FR 51735, October 4, 1993).

Energy Effects

NOAA and DOI have determined that this action will have no effect on energy supply, distribution, or use and is therefore not a “significant energy action” as defined by Executive Order 13211 (66 FR 28355, May 18, 2001). No Statement of Energy Effects is required and therefore none has been prepared.

Government to Government Relationship With Tribes

E.O. 13175—Consultation and Coordination with Indian Tribal Governments—outlines the responsibilities of the Federal Government regarding its policies with tribal implications, i.e., regulations, legislative comments or proposed legislation, and other policy statements or actions that have substantial direct effects on one or more Indian tribes, on the relationship between the Federal Government and Indian tribes, or on the distribution of power and responsibilities between the Federal Government and Indian tribes (65 FR 67249, November 9, 2000). Pursuant to E.O. 13175, we will consult with tribal governments as the National System is developed.

Administrative Procedure Act

Pursuant to authority at 5 U.S.C. 533(b)(A), prior notice and an opportunity for public comment are not required to be given, as this document concerns agency procedure or practice. Nevertheless, NOAA and DOI want the benefit of the public's comment and are hereby giving prior notice and opportunity for public comment.

Dated: March 6, 2008.
John H. Dunnigan,
Assistant Administrator for Ocean Services and Coastal Zone Management, National Oceanic and Atmospheric Administration.

[FR Doc. E8-5311 Filed 3-14-08; 8:45 am]

BILLING CODE 3510-08-M